DEPARTMENT OF TRANSPORTATION

Federal Aviation Administration

First Meeting of the Drone Advisory Committee (DAC)

AGENCY: Federal Aviation Administration (FAA), U.S. Department of Transportation (DOT).

ACTION: First Meeting of the Drone Advisory Committee (DAC).

SUMMARY: The FAA is issuing this notice to advise the public of the First Meeting of the Drone Advisory Committee (DAC).

DATES: The meeting will be held September 16, 2016, 9:00 a.m. to 4:00 p.m. EST.

ADDRESSES: The meeting will be held at: The Center for Strategic and International Studies, 1616 Rhode Island Ave NW., Washington, DC 20036.

FOR FURTHER INFORMATION CONTACT: Al Secen at asecen@rtca.org or (202) 330-0647, or the RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for the First Meeting of the Drone Advisory Committee (DAC). The agenda will include the following:

September 16, 2016, 9:00 a.m. to 4:00 p.m. EST

1. Opening of Meeting

2. FAA Opening Remarks

3. Chairman Statement

4. Member Introductions

5. Overview of Federal Advisory Committee Compliance

6. DAC Member Expectations

7. FAA Overview of DAC Objectives

8. Overview of Current UAS Landscape

9. FAA Reauthorization Activities

10. RTCA Overview of Results of Inputs From DAC Members on Issues Priorities

11. Issue Prioritization Exercise

12. Discussion of Outcome of Prioritization

13. Messaging Recap

14. Summary of This Meeting and Actions

15. Suggestions for Next Meeting

16. Meeting Schedule

17. DFO Closing Comments

18. Chairman Closing Comments

19. Member Networking

Although the DAC meeting is open to the public, the meeting location has security protocols that require advanced registration. Please email bteel@rtca.org with name, company and country of citizenship to pre-register. Attendance is limited to space availability. With the approval of the Chairman, members of the public may present oral statements at the meeting. Persons wishing to present statements or obtain information should contact the person listed in the FOR FURTHER INFORMATION CONTACT section. Members of the public may present a written statement to the committee at any time.

Issued in Washington, DC, on August 26, 2016.
Mohannad Dawoud,
Management & Program Analyst, Partnership Contracts Branch, ANG-A17 NextGen, Procurement Services Division, Federal Aviation Administration.

[FR Doc. 2016-21013 Filed 8-31-16; 8:45 am]

BILLING CODE 4910-13-P